DEPARTMENT OF HEALTH AND HUMAN SERVICES

Administration for Children and Families

[CFDA Number: 93.623]

Award of a Single-Source Replacement Grant to SOS Children's Villages Illinois in Chicago, IL

AGENCY: Family and Youth Services Bureau, ACYF, ACF, HHS.

ACTION: The Administration of Children and Families (ACF) Administration on Children, Youth, and Families (ACYF) Family and Youth Services Bureau (FYSB) announces the award of a single-source replacement grant to SOS Children's Villages Illinois in Chicago, IL.

SUMMARY: The Family and Youth Services Bureau (FYSB), Administration on Children, Youth and Families (ACYF) awarded a Fiscal Year 2010 Basic Center Program (BCP) grant to Boys Town Chicago, Inc. in Chicago, IL. During the project period, Boys Town Chicago, Inc. submitted a letter relinquishing their grant. ACYF/FYSB has designated SOS Children's Villages Illinois, a 501(c)(3) non-profit organization, as the single-source replacement grantee that will assume the programmatic and financial responsibility for the original project.

SUPPLEMENTARY INFORMATION: SOS Children's Villages Illinois will continue to provide crisis intervention, reunification counseling and temporary housing for Runaway and Homeless Youth under the terms and conditions of the grant award. The designated grantee continues to provide uninterrupted services and programming to youth and families in their catchment area.

SOS Children's Villages Illinois is located in Back of the Yards neighborhood on the Southwest side of Chicago. In a unique partnership that blends resources of the community with SOS Children's Villages Illinois, their emergency shelter offers temporary assistance for runaway and homeless youth who are trapped in a cycle of violence and poverty and have little or no family support.

Without Federal BCP funding, there would be a break in needed critical services that assist runaway and homeless youth in Back of the Yards. Without continued Federal funding, the physical and mental health of the affected families and youth would be at risk and the BCP in this locality would be seriously jeopardized.

Subject to the availability of funds, satisfactory progress of the grantee, and a determination that continued funding would be in the best interest of the Federal Government, SOS Children's Villages Illinois would be eligible to receive a continuation award that will address costs for the program during the final year of the original project period (September 2012-September 2013).

Additional information about this program and its purpose can be located on the following Web site: http://www.acf.hhs.gov/programs/fysb.

December 29, 2011-September 29, 2012.

FOR FURTHER INFORMATION CONTACT: Curtis O. Porter, Director, Runaway and Homeless Youth Program, Division of Adolescent Development and Support, Family and Youth Services Bureau, 1250 Maryland Ave. SW., Suite 800, Washington, DC 20024, Telephone: 202-205-8306.

Statutory Authority: Authority for this Award is Public Law 110-378.

Bryan Samuels,
Commissioner, Administration on Children, Youth and Families.

[FR Doc. 2012-26745 Filed 10-30-12; 8:45 am]

BILLING CODE 4182-04-P